DEPARTMENT OF THE INTERIOR

Bureau of Ocean Energy Management

30 CFR Part 550

Oil and Gas and Sulfur Operations in the Outer Continental Shelf

CFR Correction

This rule is being published by the Office of the Federal Register to correct an editorial or technical error that appeared in the most recent annual revision of the Code of Federal Regulations.

In Title 30 of the Code of Federal Regulations, parts 200 to 699, revised as of July 1, 2025, in section 550.105, reinstate the definition of “Arctic OCS” after the definition of “Archaeological resource” to read as follows:

§ 550.105 Definitions.

* * * * *

Arctic OCS means the Beaufort Sea and Chukchi Sea Planning Areas (for more information on these areas, see the Proposed Final OCS Oil and Gas Leasing Program for 2012-2017 (June 2012) at http://www.boem.gov/Oil-and-Gas-Energy-Program/Leasing/Five-Year-Program/2012-2017/Program-Area-Maps/index.aspx).

* * * * *

[FR Doc. 2025-22767 Filed 12-12-25; 8:45 am]

BILLING CODE 0099-10-P